DEPARTMENT OF THE TREASURY

Office of Thrift Supervision

[No. 2003-63]

Required Notice to Customers Making Payment by Check

AGENCY: Office of Thrift Supervision (OTS), Treasury.

ACTION: Notice.

SUMMARY: In a continuing effort to operate more efficiently, the Office of Thrift Supervision (OTS) has implemented a new system for processing checks it receives.

DATES: Effective October 31, 2003.

FOR FURTHER INFORMATION CONTACT: Howard Verp, Operating Accountant, (202) 906-6427; or Gina March, Operating Accountant, (202) 906-7247, Financial Operations, Information Systems, Administration & Finance, Office of Thrift Supervision, 1700 G Street, NW., Washington, DC 20552.

SUPPLEMENTARY INFORMATION: OTS receives checks from customers for examination fees, application filings, conference registrations, security filings, and other purposes. The Bureau of Public Debt's Administrative Resource Center (ARC) now processes all checks received for OTS. ARC utilizes a Financial Management Service system to convert each check received for OTS into an electronic fund transfer.

The following guidelines apply:

Authorization to Convert the Check: If a customer submits a check to OTS to make a payment, the check will be converted to an electronic fund transfer. “Electronic fund transfer” is the term used to refer to the process by which OTS electronically instructs the customer's financial institution to transfer funds from the customer's account to OTS's account, rather than processing the check. By submitting a completed, signed check to OTS, the customer authorizes OTS to copy the check and to use the account information from the check to make an electronic fund transfer from the customer's account for the same amount as the check. If the electronic fund transfer cannot be processed for technical reasons, the customer authorizes OTS to process the check.

Insufficient Funds: The electronic fund transfer from the customer's account will usually occur within 24 hours, which is less time than when a check is normally processed. Therefore, the customer should ensure that there are sufficient funds available in the customer's checking account when the customer sends OTS the check. If the electronic fund transfer cannot be completed because of insufficient funds, OTS will try to make the transfer up to two times before contacting the customer.

Transaction Information: The electronic fund transfer from the customer's account will appear on the account statement the customer receives from the customer's financial institution. However, the transfer may be in a different place on the statement from where the customer's checks normally appear. For example, it may appear under “other withdrawals” or “other transactions.” The customer will not receive the original check back from the financial institution. For security reasons, OTS will destroy the original check, but OTS will keep a copy of the check for record keeping purposes.

Customer Rights: The customer should contact the financial institution immediately if the customer believes that the electronic fund transfer reported on the account statement was not properly authorized or is otherwise incorrect. The Electronic Fund Transfer Act provides consumers with protections for unauthorized or incorrect electronic fund transfers.

Dated: December 9, 2003.
By the Office of Thrift Supervision.
James E. Gilleran,
Director.

[FR Doc. 03-30942 Filed 12-15-03; 8:45 am]

BILLING CODE 6720-01-P